DEPARTMENT OF VETERANS AFFAIRS

Solicitation of Nominations for the Appointment to the Advisory Committee on Structural Safety of Department of Veterans Affairs (VA) Facilities

AGENCY: Department of Veterans Affairs.

ACTION: Notice of solicitation for nominations.

SUMMARY: The Department of Veterans Affairs (VA), Office of Construction and Facilities Management, is seeking nominations of qualified candidates to be considered for appointment to the Advisory Committee on Structural Safety of Department Facilities (“the Committee”).

DATES: Nominations for membership of the Committee must be received no later than 5:00 p.m. EST on September 10, 2025.

ADDRESSES: All nominations should be submitted to Mr. Juan Archilla, Designated Federal Officer via email at juan.archilla@va.gov.

FOR FURTHER INFORMATION CONTACT: Mr. Juan Archilla, Office of Construction & Facilities Management (CFM), Department of Veterans Affairs, via email at juan.archilla@va.gov, or via telephone at (202) 286-4076. A copy of the Committee charter and list of the current membership can be obtained by contacting Mr. Archilla or accessing the website: https://department.va.gov/advisory-committee-management/2025/03/07/advisory-committee-on-structural-safety-of-department-of-veterans-affairs-facilities-statutory/.

SUPPLEMENTARY INFORMATION: In carrying out the duties set forth, the Committee responsibilities include:

(1) Providing advice to the Secretary of VA on all matters of structural safety in the construction and altering of medical facilities and recommending standards for use by VA in the construction and alteration of facilities.

(2) Reviewing of appropriate State and local laws, ordinances, building codes, climatic and seismic conditions, relevant existing information, and current research.

(3) Recommending changes to the current VA standards for structural safety, on a state or regional basis.

(4) Recommending the engagement of the services of other experts or consultants to assist in preparing reports on present knowledge in specific technical areas.

(5) Reviewing of questions regarding the application of codes and standards and making recommendations regarding new and existing facilities when requested to do so by VA.

Authority: The Committee was established in accordance with 38 U.S.C. 8105, to provide advice to the Secretary on all matters of structural safety in the construction and altering of medical facilities and recommends standards for use by VA in the construction and alteration of facilities. Nominations of qualified candidates are being sought to fill current and upcoming vacancies on the Committee.

Membership Criteria and Professional Qualifications: CFM is requesting nominations for current and upcoming vacancies on the Committee. The Committee is composed of approximately five members, in addition to ex-officio members. The Committee is required to include at least one architect and one structural engineer who are experts in structural resistance to fire, earthquake, and other natural disasters and who are not employees of the Federal Government. To satisfy this requirement and ensure the Committee has the expertise to fulfill its statutory objectives, VA seeks nominees from the following professions at this time:

(1) Architect: Candidate must be a licensed Architect experienced in the design requirements of health care facilities. Expert knowledge in codes and standards for health care and life safety is required;

(2) Fire Safety Engineer: Candidate must be an expert in fire protection engineering and building codes and standards, in particular related to the National Fire Protection Association (NFPA). A practicing, licensed Professional Engineer with expert knowledge in fire protection systems and experience with life safety requirements is required; Prior experience serving on nationally recognized professional and technical committees is also desired.

Requirements for Nomination Submission: Nominations should be type-written (one nomination per nominator). Nomination package should include: (1) a letter of nomination that clearly states the name and affiliation of the nominee, the basis for the nomination (i.e., specific attributes which qualify the nominee for service in this capacity), and a statement from the nominee indicating a willingness to serve as a member of the Committee; (2) the nominee's contact information, including name, mailing address, telephone numbers, and email address; (3) the nominee's curriculum vitae, and (4) a summary of the nominee's experience and qualification relative to the professional qualifications criteria listed above.

Membership Terms: Individuals selected for an appointment with the Committee shall be invited to serve a two-year term. At the Secretary's discretion, members may be reappointed to serve an additional term. All members will receive travel expenses and a per diem allowance in accordance with the Federal Travel Regulation for any travel made in connection with their duties as members of the Committee.

The Department strives to fairly balance committee membership through consideration of points of view represented and functions to be performed by the advisory committee, consistent with section 1004(b), title 5 U.S.C. Nominations must state that the nominee is willing to serve as a member of the Committee and appears to have no conflict of interest that would preclude membership. An ethics review is conducted for each selected nominee.

Dated: August 6, 2025.
Jelessa M. Burney,
Federal Advisory Committee Management Officer.

[FR Doc. 2025-15105 Filed 8-7-25; 8:45 am]

BILLING CODE 8320-01-P